DEPARTMENT OF ENERGY

Federal Energy Regulatory Commission

[Docket No. EG05-67-000, et al.]

Blue Breezes II LLC, et al.; Electric Rate and Corporate Filings

June 15, 2005.

The following filings have been made with the Commission. The filings are listed in ascending order within each docket classification.

1. Blue Breezes II LLC

[Docket No. EG05-67-000]

Take notice that on May 23, 2005, Blue Breezes II LLC (Applicant) submitted an application for Exempt Wholesale Generator status. Applicant states that it intends to construct a 1.25 MW wind project in Faribault County, Minnesota. Applicant further states that it will own and operate the project.

Applicant states that the filing has been served on the Securities Exchange Commission and Minnesota Public Utilities Commission.

Comment date: 5 p.m. Eastern Time on June 29, 2005.

2. Blue Breezes LLC

[Docket No. EG05-68-000]

Take notice that on May 23, 2005, Blue Breezes, LLC (Applicant) submitted an application for Exempt Wholesale Generator status. Applicant states that it intends to construct a 1.25 MW wind project in Faribault County, Minnesota. Applicant further states that it will own and operate the project.

Applicant states that a copy of the filing has been served on the Securities Exchange Commission and the Minnesota Public Utilities Commission.

Comment date: 5 p.m. Eastern Time on June 29, 2005.

3. PJM Interconnection, L.L.C.

[Docket No. ER05-10-003]

Take notice that on June 1, 2005, PJM Interconnection, L.L.C. (PJM) submitted an errata to its May 31, 2005 compliance filing in the above-referenced docket number consisting of amendments to the PJM Open Access Transmission Tariff and the Amended and Restated Operating Agreement of PJM to specify that offers for regulation service by American Electric Power Company and Virginia Electric Power Company or their affiliates in the PJM West/South Regulation Zone shall be cost-based and to enumerate the components of such cost-based offers.

Comment Date: 5 p.m. on June 27, 2005.

4. Black Hills Colorado, LLC; Black Hills Power, Inc.; Black Hills Wyoming, Inc.; Fountain Valley Power, LLC; Harbor Cogeneration Company, LLC; Las Vegas Cogeneration II, LLC

[Docket Nos. ER05-930-001, ER04-1208-001, ER03-802-003, ER01-1784-006, ER99-1248-005, and ER03-222-005]

Take notice that on June 6, 2005, Black Hills Corporation on behalf of Black Hills Colorado, LLC; Black Hills Pepperell Power Associates, Inc.; Black Hills Power, Inc.; Black Hills Wyoming, Inc.; Fountain Valley Power, LLC; Harbor Cogeneration Company LLC; and Las Vegas Cogeneration II, LLC (collectively, the Black Hills Utilities), filed an amended and restated versions of the market-based rate wholesale power sales rates schedules of the Black Hills Utilities in compliance with the Commission's order in Black Hills Colorado, LLC, et al., 111 FERC ¶ 61, 170 (2005).

Comment Date: 5 p.m. on June 27, 2005.

Standard Paragraph

Any person desiring to intervene or to protest in any of the above proceedings must file in accordance with Rules 211 and 214 of the Commission's Rules of Practice and Procedure (19 CFR 385.211 and § 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3273 Filed 6-23-05; 8:45 am]

BILLING CODE 6717-01-P